DEPARTMENT OF LABOR

Mine Safety and Health Administration

Proposed Extension of Existing Information Collection; Diesel-Powered Equipment for Underground Coal Mines

AGENCY: Mine Safety and Health Administration, Labor.

ACTION: Request for public comments.

SUMMARY: The Department of Labor, as part of its continuing effort to reduce paperwork and respondent burden, conducts a pre-clearance consultation program to provide the general public and Federal agencies with an opportunity to comment on proposed and/or continuing collections of information in accordance with the Paperwork Reduction Act of 1995. This program helps to assure that requested data can be provided in the desired format, reporting burden (time and financial resources) is minimized, collection instruments are clearly understood, and the impact of collection requirements on respondents can be properly assessed.

The Mine Safety and Health Administration is soliciting comments concerning the proposed extension of an existing information collection, OMB Control Number 1219-0119, Diesel-Powered Equipment in Underground Coal Mines. OMB last approved this information collection request (ICR) on March 31, 2009.

DATES: Submit comments on or before May 22, 2012.

ADDRESSES: Comments must be identified with “OMB Control Number 1219-0119” and sent to both the Office of Management and Budget (OMB) and MSHA. Comments to MSHA may be sent by any of the methods listed below.

• Federal E-Rulemaking Portal: http://www.regulations.gov. Follow the on-line instructions for submitting comments.

• Facsimile: 202-693-9441, include “OMB 1219-0119” in the subject line of the message.

• Regular Mail or Hand Delivery: MSHA, Office of Standards, Regulations, and Variances, 1100 Wilson Boulevard, Room 2350, Arlington, VA 22209-3939. For hand delivery, sign in at the receptionist's desk on the 21st floor.

Comments to OMB may be sent by mail addressed to the Office of Information and Regulatory Affairs, Office of Management and Budget, New Executive Office Building, 725 17th Street NW., Washington, DC 20503, Attn: Desk Officer for MSHA.

FOR FURTHER INFORMATION CONTACT: Greg Moxness, Chief, Economic Analysis Division, Office of Standards, Regulations, and Variances, MSHA, at moxness.greg@dol.gov (email); 202-693-9440 (voice); or 202-693-9441 (facsimile).

SUPPLEMENTARY INFORMATION:

I. Background

The Mine Safety and Health Administration (MSHA) requires mine operators to provide important safety protections to underground coal miners who work in mines that use diesel-powered equipment. Diesel equipment can pose a fire and explosion hazard in the confined environment of an underground coal mine where combustible coal dust and explosive methane gas are present.

This information collection request (ICR) was last approved on March 31, 2009 when it was titled “Approval, Exhaust Gas Monitoring, and Safety Requirements for the Use of Diesel Powered Equipment in Underground Coal Mines”. The ICR title has been shortened to “Diesel-Powered Equipment in Underground Coal Mines” to focus on the central subject of the ICR and to make reference to the ICR simpler.

The following provisions are addressed by the ICR:

§ 75.1901(a)—Diesel fuel requirements;

§ 75.1904(b)(4)(i)—Underground diesel fuel tanks and safety cans;

§ 75.1906(d)—Transport of diesel fuel;

§ 75.1911(i) and (j)—Fire suppression systems for diesel-powered equipment and fuel transportation units;

§ 75.1912(h) and (i)—Fire suppression systems for permanent underground diesel fuel storage facilities;

§ 75.1914(f)(1) and (2);(g)(5); (h)(1) and (2)—Maintenance of diesel powered equipment;

§ 75.1915(a); (b)(5); (c)(1) and ((2)—Training and qualification of persons working on diesel-powered equipment.

MSHA requires mine operators to provide important safety protections to underground coal miners who work in mines that use diesel-powered equipment. Diesel equipment can pose a fire and explosion hazard in the confined environment of an underground coal mine where combustible coal dust and explosive methane gas are present.

This information collection addresses the recordkeeping associated with maintenance of diesel-powered equipment; testing and maintenance of fire suppression systems on the equipment and at fueling stations; exhaust gas sampling provisions to protect miners' safety. Records document conditions encountered during: Testing and maintenance of diesel equipment; corrective actions taken; and that the persons performing the maintenance, repairs, examinations, and tests are trained and qualified to do so.

II. Desired Focus of Comments

MSHA is soliciting comments concerning the proposed extension of the information collection related to Diesel-Powered Equipment in Underground Coal Mines. MSHA is particularly interested in comments that:

• Evaluate whether the collection of information is necessary for the proper performance of MSHA's functions, including whether the information has practical utility;

• Evaluate the accuracy of MSHA's estimate of the burden of the collection of information, including the validity of the methodology and assumptions used;

• Suggest methods to enhance the quality, utility, and clarity of the information to be collected; and

• Address the use of appropriate automated, electronic, mechanical, or other technological collection techniques or other forms of information technology, e.g., permitting electronic submissions of responses, to minimize the burden of the collection of information on those who are to respond.

The public may examine publicly available documents, including the public comment version of the supporting statement, at MSHA, Office of Standards, Regulations, and Variances, 1100 Wilson Boulevard, Room 2350, Arlington, VA 22209-3939. OMB clearance requests are available on MSHA's Web site at http://www.msha.gov under “Rules & Regs” on the right side of the screen by selecting Information Collections Requests, Paperwork Reduction Act Supporting Statements. The document will be available on MSHA's Web site for 60 days after the publication date of this notice. Comments submitted in writing or in electronic form will be made available for public inspection. Because comments will not be edited to remove any identifying or contact information, MSHA cautions the commenter against including any information in the submission that should not be publicly disclosed. Questions about the information collection requirements may be directed to the person listed in the FOR FURTHER INFORMATION CONTACT section of this notice.

III. Current Actions

The information obtained from mine operators is used by MSHA during inspections to determine compliance with this safety standard. MSHA has updated the data in respect to the number of respondents and responses, as well as the total burden hours and burden costs supporting this information collection extension request.

Type of Review: Extension.

Agency: Mine Safety and Health Administration.

Title: Diesel-Powered Equipment for Underground Coal Mines.

OMB Number: 1219-0119.

Affected Public: Business or other for-profit.

Cite/Reference/Form/etc: 30 CFR Part 75.

Total Respondents: 223.

Frequency: Various.

Total Responses: 169,003.

Estimated Total Burden Hours: 14,364 hours.

Estimated Total Burden Cost: $457,808.

Comments submitted in response to this notice will be summarized and included in the request for Office of Management and Budget approval of the information collection request; they will also become a matter of public record.

Authority: 44 U.S.C. 3506(c)(2)(A).

Patricia W. Silvey,
Certifying Officer.

[FR Doc. 2012-6989 Filed 3-22-12; 8:45 am]

BILLING CODE 4510-43-P